DEPARTMENT OF TRANSPORTATION

Pipeline and Hazardous Materials Safety Administration

[Docket No. PHMSA-2024-0005]

Pipeline Safety: Meeting of the Liquid and Gas Pipeline Advisory Committees.

AGENCY: Pipeline and Hazardous Materials Safety Administration (PHMSA); Department of Transportation (DOT).

ACTION: Notice of advisory committee meeting.

SUMMARY: This notice announces a public meeting of the Technical Hazardous Liquid Pipeline Safety Standards Committee, also known as the Liquid Pipeline Advisory Committee (LPAC), and the Technical Pipeline Safety Standards Committee, also known as the Gas Pipeline Advisory Committee (GPAC), to discuss the notices of proposed rulemaking (NPRMs) titled “Periodic Standards Update II” and “Cost Recovery for Siting Reviews for LNG Facilities.”

DATES: PHMSA will hold a public meeting on Thursday, January 16, 2025. The LPAC and GPAC (Committees) will meet from 10:30 a.m. to 6:00 p.m. EST to discuss the NPRMs. However, the meeting may end early or late depending on when the Committees complete their review of the proposed rules. Members of the public who wish to attend are asked to register no later than January 2, 2025. PHMSA requests that individuals who require accommodations because of a disability notify Joe Berry by email at joseph.berry1@dot.gov at least five days prior to the meeting. Public comments on the proceedings of this meeting must be submitted by February 20, 2025.

ADDRESSES: The meeting will be held virtually. The agenda and any additional information, including information on how to participate in the meeting, will be published on the meeting website at Liquid Pipeline Advisory Committee (LPAC) and Gas Pipeline Advisory Committee (GPAC) Meeting—PHMSA Public Meetings. Presentations will be available on the meeting website and at https://www.regulations.gov in docket number PHMSA-2024-0005 no later than 30 days following the meeting. You may submit comments, identified by Docket No. PHMSA-2024-0005, by any of the following methods:

• Web: https://www.regulations.gov. This site allows the public to enter comments on any Federal Register notice issued by any agency. Follow the online instructions for submitting comments.

• Fax: 202-493-2251.

• Mail: Docket Management Facility, U.S. Department of Transportation, 1200 New Jersey Avenue SE, West Building: Room W12-140, Washington, DC 20590-0001.

• Hand Delivery: U.S. Department of Transportation, 1200 New Jersey Avenue SE, West Building: Room W12-140, Washington, DC 20590-0001, between 9:00 a.m. and 5:00 p.m. EST, Monday through Friday, except federal holidays.

• Instructions: Identify Docket No. PHMSA-2024-0179 at the beginning of your comments. If you submit your comments by mail, submit two copies. Internet users may submit comments at https://www.regulations.gov. If you would like confirmation that PHMSA received your comments, please include a self-addressed stamped postcard labeled “Comments on PHMSA-2024-0005.” The docket clerk will date stamp the postcard prior to returning it to you via U.S. mail.

• Note: All comments received will be posted without edits to https://www.regulations.gov, including any personal information provided. Please see the Privacy Act heading for more information. Anyone can use the site to search all comments by the name of the submitting individual or, if the comment was submitted on behalf of an association, business, labor union, etc., the name of the signing individual. Therefore, please review the complete DOT Privacy Act Statement in the Federal Register at 65 FR 19477 or the Privacy Notice at https://www.regulations.gov before submitting comments.

• Privacy Act Statement: DOT may solicit comments from the public regarding certain general notices. DOT posts these comments without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 190.343, you may ask PHMSA to provide confidential treatment to information you give to the Agency by taking the following steps: (1) mark each page of the original document submission containing CBI as “Confidential;” (2) send PHMSA a copy of the original document with the CBI deleted along with the original, unaltered document; and (3) explain why the information you are submitting is CBI. Submissions containing CBI should be sent to Joseph Berry, U.S. Department of Transportation, 1200 New Jersey Avenue SE, Washington, DC 20590-0001. Submissions containing CBI can also be emailed to Joseph Berry by encrypted email at joseph.berry1@dot.gov. Any commentary PHMSA receives that is not specifically designated as CBI will be placed in the public docket.

• Docket: For access to the docket or to read background documents or comments, go to https://www.regulations.gov. Follow the online instructions for accessing the dockets. Alternatively, this information is available by visiting DOT at 1200 New Jersey Avenue SE, West Building: Room W12-140, Washington, DC 20590-0001, between 9:00 a.m. and 5:00 p.m. EST, Monday through Friday, except federal holidays.

FOR FURTHER INFORMATION CONTACT: Joe Berry, Office of Pipeline Safety, by phone at 202-366-3593 or by email at joseph.berry1@dot.gov.

SUPPLEMENTARY INFORMATION:

I. Meeting Agenda

The Committees will meet virtually on Thursday, January 16, 2025, to discuss the “Periodic Standards Update II” NPRM that PHMSA published in the Federal Register on August 29, 2022, (87 FR 52713),¹ and the “Cost Recovery for Siting Reviews for LNG Facilities” NPRM that PHMSA published in the Federal Register on August 19, 2024, (89 FR 67040).² The Committees will review the NPRMs and their associated regulatory analyses, including, but not limited to, the preamble discussions of the proposals within each NPRM; regulatory impact analyses; environmental assessments; and other materials pertaining to the NPRMs provided in the respective public dockets. The committees will discuss the Cost Recovery for Siting Reviews for LNG facilities NPRM first. While the meeting is scheduled from 10:30 a.m. to 6:00 p.m. EST, the Committees may complete their review of the proposed rules before or after 6:00 p.m. EST. PHMSA will post additional details on the meeting website in advance of the meeting as they become available.

¹ The public docket for the Periodic Standards Update II NPRM can be found at https://regulations.gov in Docket No. PHMSA-2020-0013.

² The public docket for the Cost Recovery for Siting Reviews for LNG Facilities Notice can be found at https://regulations.gov in Docket No. PHMSA-2022-0118.

In the “Periodic Standards Update II” NPRM, PHMSA proposes amendments that would incorporate by reference all or parts of updated editions of some of those standards. The NPRM also proposes non-substantive edits and clarifications to certain other provisions of the federal pipeline safety regulations.

In the “Cost Recovery for Siting Reviews for LNG Facilities” NPRM, PHMSA proposes a new fee for cost recovery for siting reviews of liquefied natural gas (LNG) facility project applications where the design and construction costs total $2.5 billion or more. This proposed rule is necessary to implement section 103 of the Protecting our Infrastructure of Pipelines and Enhancing Safety Act of 2020 (PIPES Act of 2020), and to help provide adequate resources for siting reviews to promote PHMSA's public safety and environmental protection objectives. This proposed rule also revises current regulations authorizing PHMSA's cost recovery for design safety reviews of gas, hazardous liquid, and carbon dioxide pipeline facilities to improve the clarity of the regulations and reduce unnecessary administrative burdens.

Following the LPAC and GPAC meeting, PHMSA will evaluate the Committees' recommendations and publish final rules that address the comments received and relevant information from the meeting report.

II. Background

The Committees are statutorily mandated advisory committees that provide PHMSA and the Secretary of Transportation with recommendations on proposed standards for the transportation of hazardous liquid and gas by pipelines. The Committees were established in accordance with 49 U.S.C. 60115 and the Federal Advisory Committee Act (FACA) (5 U.S.C. Ch. 10) to review PHMSA's regulatory initiatives and determine their technical feasibility, reasonableness, cost-effectiveness, and practicability. Each committee consists of 15 members, with membership evenly divided among federal and state governments, regulated industry, and the general public.

III. Public Participation

The meeting will be open to the public. Members of the public who wish to attend must register on the meeting website and include their names and affiliations. PHMSA will provide members of the public reasonable opportunity to make a statement during this meeting. Additionally, PHMSA will record the meeting and post a record to the public docket. PHMSA is committed to providing all participants with equal access to this meeting. Public comments on the proceedings of the LPAC and GPAC meeting must be submitted by February 20, 2025.

PHMSA is not always able to publish a notice in the Federal Register quickly enough to provide timely notice regarding last-minute issues that impact a previously announced advisory committee meeting. Therefore, individuals should check the meeting website or contact Joe Berry regarding any possible changes.

Issued in Washington, DC, on December 20, 2024, under authority delegated in 49 CFR 1.97.
Alan K. Mayberry,
Associate Administrator for Pipeline Safety.

[FR Doc. 2024-30981 Filed 12-27-24; 8:45 am]

BILLING CODE 4910-60-P